DEPARTMENT OF THE INTERIOR

Bureau of Land Management

[OR-130-1020-XU; GP0-0136]

Notice of Meeting of the Eastern Washington Resource Advisory Council

ACTION: Meeting of the Eastern Washington Resource Advisory Council; March 16, 2000, in Spokane, Washington.

SUMMARY: A meeting of the Eastern Washington Resource Advisory Council will be held on March 16, 2000. The meeting will convene at 9:00 a.m., at the Spokane District Office of the Bureau of Land Management, 1103 N. Fancher Road, Spokane, Washington, 99212-1275. The meeting will adjourn upon conclusion of business, but no later than 4:00 p.m. Public comments will be heard from 10:00 a.m. until 10:30 a.m. If necessary to accommodate all wishing to make public comments, a time limit may be placed upon each speaker. At an appropriate time, the meeting will adjourn for approximately one hour for lunch. Topics to be discussed include: Status of the Interior Columbia Basin Ecosystem Management Project, Central Washington Land Exchange and several Forest Service issues such as the reorganization of the Colville and Okanogan National Forests and the roadless initiatives.

FOR FURTHER INFORMATION CONTACT: Bureau of Land Management, Spokane District Office, 1103 N. Fancher Road, Spokane, Washington, 99212; or call 509-536-1200.

Dated: February 23, 2000.
Gary J. Yeager,
Acting District Manager.

[FR Doc. 00-4725 Filed 2-28-00; 8:45 am]

BILLING CODE 4310-33-P